DEPARTMENT OF LABOR

Employment and Training Administration

[TA-W-70,895]

North American Refractories Company, White Cloud Plant, White Cloud, MI; Notice of Termination of Investigation

Pursuant to Section 223 of the Trade Act of 1974, as amended, an investigation was initiated on June 3, 2009 in response to a worker petition filed by a company official on behalf of workers of North American Refractories Company, White Cloud Plant, White Cloud, Michigan.

The petitioner has requested that the petition be withdrawn. Consequently, further investigation in this case would serve no purpose, and the investigation under this petition has been terminated.

Signed at Washington, DC, this 27th day of July 2009.
Richard Church,
Certifying Officer, Division of Trade Adjustment Assistance.

[FR Doc. E9-20456 Filed 8-25-09; 8:45 am]

BILLING CODE 4510-FN-P